DEPARTMENT OF DEFENSE

Office of the Secretary of Defense

Notice of Advisory Committee Meeting Date Change

AGENCY: Missile Defense Agency (MDA), DoD.

ACTION: Notice.

SUMMARY: On Tuesday, December 14, 2010, the Department of Defense announced by publication in the Federal Register (75 FR 77848) closed meetings of the Missile Defense Advisory Committee. These meetings have been rescheduled from January 19-20, 2011, to January 6-7, 2011. There are no other changes to the notice.

FOR FURTHER INFORMATION CONTACT: Mr. David Bagnati, Designated Federal Officer at MDAC@mda.mil, phone/voice mail 703-695-6438, or mail at 7100 Defense Pentagon, Washington, DC 20301-7100.

Dated: December 22, 2010.
Morgan F. Park,
Alternate OSD Federal Register Liaison Officer, Department of Defense.

[FR Doc. 2010-32594 Filed 12-27-10; 8:45 am]

BILLING CODE 5001-06-P